DEPARTMENT OF ENERGY

Federal Energy Regulatory Commission

Combined Notice of Filings #1

Take notice that the Commission received the following electric rate filings:

Docket Numbers: ER10-1484-007

Applicants: Shell Energy North America (US), L.P.

Description: Supplement to December 28, 2012 Updated Market Power Analysis for the Southwest Power Pool Region of Shell Energy North America (US), L.P.

Filed Date: 7/23/13

Accession Number: 20130723-5144

Comments Due: 5 p.m. ET 8/2/13

Docket Numbers: ER10-1827-001; ER10-1827-002; ER10-1825-002; ER10-1825-001

Applicants: Cleco Power LLC, Cleco Evangeline LLC

Description: Responses to Requests for Information of Cleco Power LLC.

Filed Date: 5/28/13

Accession Number: 20130528-5084

Comments Due: 5 p.m. ET 8/14/13

Docket Numbers: ER13-2012-000

Applicants: Southern California Edison Company

Description: GIA and Distribution Service Agreement with ASE PV Power of Riverside LLC to be effective 7/25/2013.

Filed Date: 7/24/13

Accession Number: 20130724-5001

Comments Due: 5 p.m. ET 8/14/13

Docket Numbers: ER13-2013-000

Applicants: Pacific Gas and Electric Company

Description: CCSF IA—42nd Quarterly Filing of Facilities Agreements to be effective 6/30/2013.

Filed Date: 7/24/13

Accession Number: 20130724-5003

Comments Due: 5 p.m. ET 8/14/13

Docket Numbers: ER13-2014-000

Applicants: Pacific Gas and Electric Company

Description: KMPUD IA and TFA to be effective 8/1/2013.

Filed Date: 7/24/13

Accession Number: 20130724-5004

Comments Due: 5 p.m. ET 8/14/13

Docket Numbers: ER13-2015-000

Applicants: Pacific Gas and Electric Company

Description: Notice of Termination of KMPUD Engineering Agreement to be effective 8/1/2013.

Filed Date: 7/24/13

Accession Number: 20130724-5005

Comments Due: 5 p.m. ET 8/14/13

Docket Numbers: ER13-2017-000

Applicants: Duke Energy Florida, Inc.

Description: Cancellation of DEF Rate Schedule No. 193 to be effective 12/31/2012.

Filed Date: 7/24/13

Accession Number: 20130724-5038

Comments Due: 5 p.m. ET 8/14/13

Docket Numbers: ER13-2018-000

Applicants: Duke Energy Florida, Inc.

Description: Cancellation of DEF Rate Schedule No. 199 to be effective 12/31/2011.

Filed Date: 7/24/13

Accession Number: 20130724-5040

Comments Due: 5 p.m. ET 8/14/13

Take notice that the Commission received the following PURPA 210(m)(3) filings:

Docket Numbers: QM13-3-000

Applicants: Missouri River Energy Services

Description: Missouri River Energy Services submits Application to Terminate Mandatory PURPA Purchase Obligation on behalf of itself and twenty-four of its members.

Filed Date: 7/23/13

Accession Number: 20130723-5148

Comments Due: 5 p.m. ET 8/20/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2013.
Nathaniel J. Davis, Sr.,
Deputy Secretary.

[FR Doc. 2013-18658 Filed 8-1-13; 8:45 am]

BILLING CODE 6717-01-P